DEPARTMENT OF DEFENSE

Office of the Secretary

[Transmittal No. 21-0H]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0H.

Dated: January 31, 2023.
Aaron T. Siegel,
Alternate OSD Federal Register Liaison Officer, Department of Defense.

BILLING CODE 5001-06-P

BILLING CODE 5001-06-C

Transmittal No. 21-0H

Report of Enhancement or Upgrade of Sensitivity of Technology or Capability (Sec. 36(B)(5)(C), AECA)

(i) Prospective Purchaser: Government of Thailand

(ii) Sec. 36(b)(1), AECA Transmittal No.: 12-39

Date: July 20, 2012

Implementing Agency: Army

Funding Source: National Funds

(iii) Description: On July 20, 2012, Congress was notified by Congressional certification transmittal number 12-39, of the possible sale, to the Government of Thailand of 4 UH-60M Black Hawk Helicopters, 10 T700-GE-701D Engines (8 installed and 2 spares), warranty, support equipment, spare and repair parts, personnel training and training equipment, publications and technical data, U.S. Government and contractor technical assistance, and other related logistics support. The estimated cost was $235 million. Major Defense Equipment (MDE) constituted $170 million of this total.

On July 28, 2017, CN 0M-16 reported the inclusion of eight (8) H-764ACE Embedded Global Position System (GPS)/Inertial Navigation Systems (EGI) units as MDE. Although the value of the EGI was included in the total value of the case and the original notification, it was not enumerated as MDE in the original notification. Upgrading the status of this equipment to MDE did not result in a net increase in cost of MDE. The total case value remained $235 million.

On October 17, 2018, CN 0Q-18 reported the addition of two spare Embedded Global Position System (GPS)/Inertial Navigation Systems (EGI) units valued at $371,970. These additions did not result in an increase to the MDE cost of $170 million or to the total case value of $235 million.

This transmittal notifies inclusion of the following additional MDE items:

1) Eight (8) UH-60M Black Hawk helicopters in standard USG configuration with designated unique equipment and Government Furnished Equipment (GFE)

2) Seventeen (17) T700-GE-701D engines (includes 1 spare)

The following non-MDE items will also be included: H-764ACE/EAGLE+429 Embedded Global Position System/Inertial Navigation Systems (EGIs); AN/APX-117A Identification Friend or Foe (IFF) transponders; AN/ARC-201E RT-1478E (or designated replacement); MXF-4027 radios (or designated replacement); Aviation Mission Planning Systems (AMPS); Engine Inlet Barrier Filter (EIBF) System; External Rescue Hoist (ERH); C-406 Emergency Locator Transmitter (ELT); LRIP Crew Chief Gunner Seats; basic aircraft warranty; CONUS and OCONUS air worthiness support; calibration services; spare and repair parts; aviation and peculiar ground support equipment; communication equipment; publications and technical documentation; personnel and equipment training; site surveys; special tools and test equipment; U.S. Government and contractor technical and logistics support services; and other related elements of logistics and program support.

The addition of these items will result in a net increase in MDE cost of $240 million, resulting in a revised MDE cost of $410 million. The additional non-MDE items will result in a net increase of $100 million. The total estimated case value will increase to $575 million.

(iv) Significance: Thailand intends to use the UH-60s to modernize its armed forces by updating its military capabilities and improving interoperability between Thailand and the United States and other allies.

(v) Justification: This proposed sale will support the foreign policy and national security of the United States by helping to improve the security of a Major Non-NATO ally which is an important force for political stability and economic progress in the Indo-Pacific region.

(vi) Sensitivity of Technology:

The UH-60M aircraft is a medium lift four bladed aircraft which includes two (2) T-701D Engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control.

Honeywell H-764ACE/EAGLE+429 Embedded Global Position System/Inertial Navigation System (EGI) provides GPS and INS capabilities to the aircraft. The EGI will include Selective Availability Anti-Spoofing Module (SAASM) security modules to be used for secure GPS PPS, if required.

The AN/APX-117, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators.

The AN/ARC-201E (or designated equivalent), Single Channel Ground to Air Radio System (SINCGARS), is a tactical airborne radio subsystem that provides secure, anti-jam voice and data communication and data communication with ground units. The system uses 25 kHz channels in the very high frequency (VHF) FM band, from 30.000 to 87.975 megahertz (MHz). The ARC-201E/RT-1478E is the commercial, exportable version of the ARC-201D/RT-1478D radio system that does not include Military/NSA COMSEC capabilities. The system and Data Rate Adapter (DRA) combines three Line Replaceable Units into one and reduces overall weight of the aircraft.

The MXF-4027 (or designated equivalent) is the commercial, exportable version of the ARC-231/RT-1808A radio system. This is a software-definable radio for military aircraft that provides two-way, multi-mode voice and data communications in the 30 Hz to 512 MHz frequency range. It covers both line-of-sight Ultra High Frequency (UHF) and Very High Frequency (VHF) bands with SATCOM capabilities, including Integrated Waveform (IW). The MXF-4027 radio also includes embedded frequency agile modes, Demand Assigned Multiple Access (DAMA), Integrated Waveform (IW), operator selectable Air Traffic Control (ATC) channel spacing of 5, 8.33, 12.5, and 25kHz steps, and other data link features.

The highest level of classification of defense articles, components, and services included in this potential sale is UNCLASSIFIED.

(vii) Date Report Delivered to Congress: April 21, 2021

[FR Doc. 2023-02379 Filed 2-3-23; 8:45 am]

BILLING CODE 5001-06-P